DEPARTMENT OF VETERANS AFFAIRS

Advisory Committee on the Readjustment of Veterans, Notice of Meeting

The Department of Veterans Affairs gives notice under Public Law 92-463 (Federal Advisory Committee Act) that a meeting of the Advisory Committee on the Readjustment of Veterans will be held Wednesday, July 23, through Friday, July 25, 2003, in Anchorage, Alaska. The meeting sessions will begin at 8 a.m. and adjourn by 5 p.m. on all three days.

The Committee's mandate is to review the post-military readjustment needs of veterans and to assess the availability and quality of VA's programs for meeting these needs.The purpose of the meeting is to provide the Committee with an opportunity to tour local VA facilities and to engage in fact finding discussions with local VA service providers and veterans.

The meeting on July 23 will be conducted in two locations, Fairbanks and Kenai. The Committee will be divided into two subgroups for this purpose. One group will travel to Fairbanks to review the community-based operations of the local Vet Center and to meet with local veterans. A second group will travel to Kenai to review Vet Center operations at that location and meet with local veterans.

The meeting on July 24 will be conducted at the Anchorage Vet Center. The day's agenda will include a tour of the facilities, program briefings provided by VA staff from the Vet Center and the Outpatient Clinic, and meetings with local veterans and veterans service organization representatives.

The July 25 session will be conducted primarily at the VA Outpatient Clinic featuring presentations by VA service providers and military staff from the Family Support Services Center at Elmendorf Air Force Base. The day's agenda will also include an open forum community meeting at the VA Outpatient Clinic from 10 to 11:30 a.m. This meeting will provide the Committee members an opportunity to meet with local veteran stakeholders, veteran service representatives and other local community leaders.

The sessions on Wednesday, Thursday and most of Friday will be closed to the public in accordance with the provisions of 5 U.S.C., 552b(c)(6) pursuant to subsection 10(d) of the Federal Advisory Committee Act. During those sessions, the Committee will be engaging in discussions with clinical service providers and veterans. The discussions will disclose information of a personal nature to veteran patients, which would constitute a clearly unwarranted invasion of personal privacy. The open forum community meeting on Friday from 10 to 11:30 a.m. at the VA Outpatient Clinic will be open to the public. The VA Outpatient Clinic is located at 2925 DeBarr Road, Anchorage, Alaska 99508.

Those who plan to attend or have questions concerning the meeting may contact Mr. Charles M. Flora, M.S.W., Readjustment Counseling Service, Department of Veterans Affairs Central Office, at (202) 273-8969. Written statements for the Committee meeting record may be forwarded to Mr. Flora up to 10 days following the meeting.

Dated: July 2, 2003.
By Direction of the Secretary.
E. Philip Riggin,
Committee Management Office.

[FR Doc. 03-18116 Filed 7-16-03; 8:45 am]

BILLING CODE 8320-01-M